DEPARTMENT OF COMMERCE

National Institute of Standards and Technology

Prospective Grant of Exclusive Patent License

AGENCY: National Institute of Standards and Technology, Commerce.

ACTION: Notice of prospective grant of exclusive patent license.

SUMMARY: This is a notice in accordance with 35 U.S.C. 209(e) and 37 CFR 404.7(a)(1)(i) that the National Institute of Standards and Technology (“NIST”), U.S. Department of Commerce, is contemplating the grant of an exclusive license in the United States of America, its territories, possessions and commonwealths, to NIST's interest in the invention embodied in U.S. Patent No. 6,393,566 titled “Timestamp Service for the National Information Network,” NIST Docket No. 95-022 to RSIP LLC, having a place of business at 8 East Figueroa, Suite 220, Santa Barbara, California 93101. The grant of the license would be for the field of use of Digital Timestamping.

FOR FURTHER INFORMATION CONTACT: Cathy Cohn, National Institute of Standards and Technology, Technology Partnerships Office, 100 Bureau Drive, Stop 2200, Gaithersburg, MD 20899, Phone 301-975-6691, cathleen.cohn@nist.gov.

SUPPLEMENTARY INFORMATION: The prospective exclusive license will be royalty bearing and will comply with the terms and conditions of 35 U.S.C. 209 and 37 CFR 404.7. The prospective exclusive license may be granted unless, within fifteen days from the date of this published Notice, NIST receives written evidence and argument which establish that the grant of the license would not be consistent with the requirements of 35 U.S.C. 209 and 37 CFR 404.7.

U.S. Patent No. 6,393,566 is owned by the U.S. government, as represented by the Secretary of Commerce. The invention is a system and method for time-stamping and signing a digital document by an authenticating party and returning the signed stamped document to the originator or his designated recipient. Messages may be received by a first “public” machine over a network, by fax, or through input mediums such as diskettes. The clock of the first machine is synchronized with Universal Coordinated Time (UTC) and can be checked for accuracy by anyone on the network. A second “private” machine, not connected to any network, receives the time-stamped message, applies a hashing procedure and provides a signature using a private key. The signed hashed time-stamped message is then returned. A verify procedure is made widely available to check the genuineness of a document by rehashing the document and applying a public key. The result should match the signed time-stamped message returned by the authenticating party.

Dated: June 25, 2012.
Willie E. May,
Associate Director for Laboratory Programs.

[FR Doc. 2012-16018 Filed 6-28-12; 8:45 am]

BILLING CODE 3510-13-P